Proclamation 9801 of October 5, 2018

Columbus Day, 2018

By the President of the United States of America

A Proclamation

In 1492, Christopher Columbus and his mighty three-ship fleet, the Niña, Pinta, and Santa Maria, first spotted the Americas. His historic achievement ushered in an Age of Discovery that expanded our knowledge of the world. Columbus's daring journey marked the beginning of centuries of transatlantic exploration that transformed the Western Hemisphere. On Columbus Day, we commemorate the achievements of this skilled Italian explorer and recognize his courage, will power, and ambition—all values we cherish as Americans.

Columbus's spirit of determination and adventure has provided inspiration to generations of Americans. On Columbus Day, we honor his remarkable accomplishments as a navigator, and celebrate his voyage into the unknown expanse of the Atlantic Ocean. His expedition formed the initial bond between Europe and the Americas, and changed the world forever. Today, in that spirit, we continue to seek new horizons for greater opportunity and further discovery on land, in sea, and in space.

Although Spain sponsored his voyage, Columbus was, in fact, a proud citizen of the Italian City of Genoa. As we celebrate the tremendous strides our Nation has made since his arrival, we acknowledge the important contributions of Italian Americans to our country's culture, business, and civic life. We are also thankful for our relationship with Italy, a great ally that shares our strong, unwavering commitment to peace and prosperity.

In commemoration of Christopher Columbus's historic voyage, the Congress, by joint resolution of April 30, 1934, and modified in 1968 (36 U.S.C. 107), as amended, has requested the President proclaim the second Monday of October of each year as “Columbus Day.”

NOW, THEREFORE, I, DONALD J. TRUMP, President of the United States of America, by virtue of the authority vested in me by the Constitution and the laws of the United States, do hereby proclaim October 8, 2018, as Columbus Day. I call upon the people of the United States to observe this day with appropriate ceremonies and activities. I also direct that the flag of the United States be displayed on all public buildings on the appointed day in honor of our diverse history and all who have contributed to shaping this Nation.

IN WITNESS WHEREOF, I have hereunto set my hand this fifth day of October, in the year of our Lord two thousand eighteen, and of the Independence of the United States of America the two hundred and forty-third.

[FR Doc. 2018-22335

Filed 10-10-18; 11:15 am]

Billing code 3295-F9-P